DEPARTMENT OF COMMERCE

National Oceanic and Atmospheric Administration

RIN 0648-XC859

Fisheries of the Caribbean, Gulf of Mexico, and South Atlantic; Shrimp Fisheries of the Gulf of Mexico and Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf and South Atlantic Fisheries Foundation, Inc (Foundation). If granted, the EFP would authorize the applicant, with certain conditions, to collect and retain limited numbers of specimens that would otherwise be prohibited from possession and retention. This study, to be conducted in the exclusive economic zone (EEZ) of the Gulf of Mexico (Gulf) and South Atlantic, is intended to characterize catch and bycatch within the shrimp fisheries of the Gulf and South Atlantic.

DATES: Comments must be received on or before October 15, 2013.

ADDRESSES: You may submit comments, identified by “NOAA-NMFS-2013-0141”, by any of the following methods:

• Electronic Submission: Submit all electronic public comments via the Federal e-Rulemaking Portal. Go to www.regulations.gov/#!docketDetail;D=NOAA-NMFS-2013-0141, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Susan Gerhart, 727-824-5305; email: Susan.Gerhart@noaa.gov.

SUPPLEMENTARY INFORMATION: The EFP is requested under the authority of the Magnuson-Stevens Fishery Conservation and Management Act (16 U.S.C. 1801 et seq.), and regulations at 50 CFR 600.745(b) concerning exempted fishing.

The applicant proposes research as part of the Cooperative Research Program, which is intended to involve commercial fishermen in the collection of fundamental fisheries information. The described research is part of a long-term observer program that began in 1992, and that can be expected to continue in the future. Resource collection efforts support the development and evaluation of fisheries management and regulatory options.

The EFP would exempt the activities described herein from regulations at 50 CFR part 622, as they affect fish and invertebrates managed by the Gulf of Mexico and South Atlantic Fishery Management Councils (Councils). The EFP covers these Council-managed species that may be taken during standard fishing activities of the commercial shrimp fishery of the southeast United States. The EFP would exempt personnel from the Foundation from fishery regulations such as bag limits, size limits, quotas, seasonal restrictions, and gear authorizations as specified in 50 CFR part 622, Subparts A through R for reef fish, red drum, coastal migratory pelagics, and spiny lobster in the Gulf of Mexico, and snapper-grouper, coastal migratory pelagics, dolphin and wahoo, and spiny lobster in the South Atlantic.

The EFP would authorize Foundation observers aboard commercial shrimp vessels to temporarily possess all necessary specimens from the catch for documentation and to permanently retain approximately 500 specimens of federally-managed finfishes and invertebrates that would otherwise be prohibited from possession and retention through December 31, 2018. The described research is part of a long-term observer program that began in 1992, and that can be expected to continue in the future, therefore, the 5-year time period for the EFP is appropriate for this research effort. Specimens would be collected from Federal waters of the Gulf and South Atlantic, and sampling would occur during normal fishing operations of the trawl gear component of the penaeid shrimp commercial sector. Sampling would occur year-round. These species would be retained only in the event of the need for subsequent shore-side identification or as documentation of quality assurance in the data collection process. Data collection for this study would support improved information about the catch, bycatch, discards, and the ability to reduce bycatch for species taken by the shrimp fisheries of the Gulf and South Atlantic. These data would provide insight on a stock's resilience to fishing, and would help improve estimates of long-term biological productivity of the stocks. Currently, these data are unavailable, and it is anticipated that project results will yield valuable data within these fisheries.

NMFS finds this application warrants further consideration. Based on a preliminary review, NMFS intends to issue an EFP. The limited sampling program and associated methodology listed in the EFP is not expected to impact the fishery stocks; the estimated 500 specimens to be retained through the duration of the EFP represents a small fraction of average annual landings.

Conditions the agency will impose on this permit, if it is granted, include but are not limited to, a prohibition of conducting research within marine protected areas, marine sanctuaries, or special management zones, without additional authorization. Additionally, NMFS will prohibit the possession of Nassau or goliath grouper, and require any sea turtles taken incidentally during the course of fishing or scientific research activities to be handled with due care to prevent injury to live specimens, observed for activity, and returned to the water. All Foundation-associated personnel who conduct onboard sampling activities have undergone formal sea turtle handling training through NMFS, and are considered NMFS-designated agents while conducting work under the identified Cooperative Agreements.

A final decision on issuance of the EFP will depend on a NMFS review of public comments received on the application, consultations with the affected states, the Councils, and the U.S. Coast Guard, and a determination that the EFP is consistent with all applicable laws.

Authority: 16 U.S.C. 1801 et seq.

Dated: September 9, 2013.
James P. Burgess,
Acting Deputy Director, Office of Sustainable Fisheries, National Marine Fisheries Service.

[FR Doc. 2013-22215 Filed 9-11-13; 8:45 am]

BILLING CODE 3510-22-P